SOCIAL SECURITY ADMINISTRATION

Privacy Act of 1974 as amended; Computer Matching Program (SSA/Texas Workers Compensation Commission) Match Number 1092

AGENCY: Social Security Administration (SSA).

ACTION: Notice of computer matching program.

SUMMARY: In accordance with the provisions of the Privacy Act, as amended, this notice announces a computer matching program that SSA plans to conduct with Texas Workers Compensation Commission.

DATES: SSA will file a report of the subject matching program with the Committee on Governmental Affairs of the Senate, the Committee on Government Reform and Oversight of the House of Representatives, and the Office of Information and Regulatory Affairs, Office of Management and Budget (OMB). The matching program will be effective as indicated below.

ADDRESSES: Interested parties may comment on this notice by either telefax to (410) 966-2935 or writing to the Associate Commissioner, Office of Program Support, 2-Q-16 Operations Building, 6401 Security Boulevard, Baltimore, MD 21235-6401. All comments received will be available for public inspection at this address.

FOR FURTHER INFORMATION CONTACT: The Associate Commissioner for Program Support as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, State, or local government records.

It requires Federal agencies involved in computer matching programs to:

(1) Negotiate written agreements with the other agency or agencies participating in the matching programs;

(2) Obtain the Data Integrity Boards' approval of the match agreements;

(3) Furnish detailed reports about matching programs to Congress and OMB;

(4) Notify applicants and beneficiaries that their records are subject to matching; and

(5) Verify match findings before reducing, suspending, terminating, or denying an individual's benefits or payments.

B. SSA Computer Matches Subject to the Privacy Act

We have taken action to ensure that all of SSA's computer matching programs comply with the requirements of the Privacy Act, as amended.

Dated: August 16, 2000.
Susan M. Daniels,
Deputy Commissioner for Disability and Income Security Programs.

Notice of Computer Matching Program, Texas Workers Compensation Commission (TWCC) With the Social Security Administration (SSA)

A. Participating Agencies

SSA and Texas Workers Compensation Commission (TWCC)

B. Purpose of the Matching Program

The purpose of this pilot matching program is to identify Title II and/or Title XVI recipients who are receiving workers compensation benefits. This pilot will facilitate the identification of changes in workers compensation benefits and status, thereby ensuring efficient and accurate processing of entitlement and post eligibility workloads.

C. Authority for Conducting Matching Program

Section 205(a) and 1631 (e)(1)(B) of the Social Security Act.

D. Categories of Records and Individuals Covered by the Matching Program

On the basis of certain identifying information, TWCC will provide SSA with electronic files containing workers compensation records.

SSA will then match the TWCC data with beneficiary information maintained in the Master Beneficiary Record, Supplemental Security Income Record, and the Master Files of Social Security Number Holders and SSN Applications.

E. Inclusive Dates of the Match

The matching program shall become effective no sooner than 40 days after notice for the program is sent to Congress and OMB, or 30 days after publication of this notice in the Federal Register, whichever date is later. The matching program will continue for 18 months from the effective date and may be extended for an additional 12 months thereafter, if certain conditions are met.

[FR Doc. 00-21324 Filed 8-21-00; 8:45 am]

BILLING CODE 4191-02-U